DEPARTMENT OF TRANSPORTATION

Research and Special Programs Administration

Actions on Exemption Applications

AGENCY: Research and Special Programs Administration, DOT.

ACTION: Notice of actions on exemption applications.

SUMMARY: In accordance with the procedures governing the application for, and the processing of, exemptions from the Department of Transportation's Hazardous Materials Regulations (49 CFR Part 107, Subpart B), notice is hereby given of the actions on exemption applications in January-March 2002. The modes of transportation involved are identified by a number in the “Nature of Applications” portion of the table below as follows: 1—Motor vehicle, 2—Rail freight, 3—Cargo vessel, 4—Cargo Aircraft only, 5—Passenger-carrying aircraft. Application numbers prefixed by the letters EE represent applications for Emergency Exemptions. It should be noted that some of the sections cited were those in effect at the time certain exemptions were issued.

Issued in Washington, DC, on April 9, 2002.
R. Ryan Posten,
Exemptions Program Officer, Office of Hazardous Materials, Exemptions and Approvals.

Modification Exemptions
Application No. | Exemption No. | Applicant | Regulation(s) affected | Nature of exemption thereof
3216-M | DOT-E 3216 | Solvay Fluorides, St. Louis, MO | 49 CFR 173.314(c), 179.301 | To modify the exemption to authorize the transportation of a Division 2.3 material in non-DOT specification multi-unit tank car tanks.
4354-M | DOT-E 4354 | PPG Industries, Inc., Pittsburgh, PA | 49 CFR 173.226(b) | To modify the exemption to authorize an additional loading method for the transportation of a Division 6.1 material in UN standard 1H1 drums and 6HA1 composite packagings.
7657-M | DOT-E 7657 | Welker Engineering Company, Sugarland, TX | 49 CFR 173.201, 173.202, 173.203, 173.302(a)(1), 173.304(a)(1), 173.304(b)(1), 175.3 | To modify the exemption to authorize the transportation of an additional Division 2.3 material in non-DOT specification cylinders.
9221-M | DOT-E 9221 | Applied Companies, Valencia, CA | 49 CFR 173.302(a)(4), 175.3 | To modify the exemption to authorize cargo vessel as an additional mode for transporting Division 2.2 materials in non-DOT specification stainless steel cylinders.
9880-M | DOT-E 9880 | GE Reuter-Stokes, Twinsburg, OH | 49 CFR 173.302, 175.3, Part 172 Subpart E and F | To modify the exemption to authorize the transportation of an additional Division 2.2 materials in non-DOT specification containers described as hermetically sealed electron tube devices.
9940-M | DOT-E 9940 | GE Reuter-Stokes, Twinsburg, OH | 49 CFR 172.400, 173.306, 175.3 | To modify the exemption to authorize the transportation of an additional Division 2.2 material in non-DOT specification containers described as hermetically sealed electron tube devices.
10695-M | DOT-E 10695 | 3M Company, St. Paul, MN | 49 CFR 172.101, 172.504, 172.505(a), 173.323, 174.81, 176.84, 177.848 | To authorize return shipments of partial packs from customer locations of aluminum cartridges containing ethylene oxide labeled as flammable gas prepared by trained and tested 3M employees.
10798-M | DOT-E 10798 | Chemetall Foote Corporation, Kings Mountain, NC | 49 CFR 174.67(j), (j) | To modify the exemption to authorize the transportation of a Division 4.2 and an additional Class 3 material in DOT Specification tank cars.
10929-M | DOT-E 10929 | Bulkmatic Transport Company, Jersey City, NJ | 49 CFR 174.67(1), (j) | To modify the exemption to authorize the transportation of additional Class 3 materials in DOT Specification tank cars.
11316-M | DOT-E 11316 | TRW Automotive Occupant Safety Systems, Queen Creek, AZ | 49 CFR 173.116(c), 173.116(e), 173.116(f), 173.62(c), Part 172, Subparts D, E | To modify the exemption to authorize the transportation of a Division 1.4G and additional 1.4S material for shipment to additional TRW facilities and to increase quantity of power devices or igniters per tray from 16 to 36.
11770-M | DOT-E 11770 | Gas Cylinder Technologies, Inc., Tecumseh, Ontarior N8N 2M4 Canada | 49 CFR 173.302, 173.304 | To modify the exemption to authorize an additional chemistry composition for the manufacture of non-DOT specification cylinders, comparagble to DOT 3E, for the transportation of Division 2.1, 2.2 and 2.3 materials.
11827-M | DOT-E 11827 | NRS America Inc., White Plains, NY | 49 CFR 180.352(b)(3), 180.605(c)(1) | To modify the exemption to authorize the transportation of an additional Division 5.1 material in certain lined DOT Specification IM 101 portable tanks and UN standard UN 31A Intermediate Bulk Containers.
11924-M | DOT-E 11924 | Wrangler Corp., A Division of Lapoint Industries, Auburn, ME | 49 CFR 173.12(b)(2)(i) | To modify the exemption to authorize two additional DOT Specification containers for use as outer packaging for lab pack applications transporting various classes of hazardous wastes.
11952-M | DOT-E 11952 | Department of Defense (MTMC), Alexandria, VA | 49 CFR 173.306(a) | To modify the exemption to authorize the use of a new laser guided training round configuration with a quantity increase of pressure vessels in the aluminum and wooden outer containers.
12068-M | DOT-E 12068 | Sea Launch Company, L.L.C., Long Beach, CA | 49 CFR 173.62, Part 172 Subparts C, D, E and F, Part 173 Subparts E, F and G | To modify the exemption to authorize the transportation of additional Class 3 and Division 2.2 materials contained in the Sea Launch Integrated Launch Vehicle with and without payload.
12296-M | DOT-E 12296 | Clean Earth Systems, Inc. Tampa, FL | 49 CFR 173.12(b)(2)(i) | To modify the exemption to authorize certain DOT Specification UN11HH2 composite Intermediate Bulk Containers as outer packaging for lab packs when transporting various classes of hazardous materials.
12339-M | DOT-E 12339 | Air Products and Chemicals, Inc., Allentown, PA | 49 CFR 173.192(a)(3), 173.302(a)(5), 173.302(F), 173.3L04(a)(4), 173.304(d)(3)(i) | To modify the exemption to authorize the transportation of an additional Division 2.3 material in DOT Specification 3AL aluminum cylinders via cargo vessel.
12473-M | DOT-E 12473 | Old Bridge Metals & Chemicals, Inc., Old Bridge, NJ | 49 CFR 173.12(c) | To modify the exemption to authorize rail freight as an additional mode of transportation for the transportation of Class 8 materials in DOT Specification UN1H1 and UN1H2 plastic drums.
12772-M | DOT-E 12772 | Air Cruisers, Inc., Belmar, NJ | 49 CFR 172.301, 173.219(b)(1), 173.22a, 173.301(e) | To reissue an exemption originally issued on an emergency basis for the transportation of non-DOT specification cylinders, filled in excess of their marked service pressure, containing a Division 2.2 material.
12817-M | DOT-E 12817 | Phibro-Tech, Inc., Fort Lee, NJ | 49 CFR 172.301(c), 173.219(b)(1), 173.302(a) | To reissue the exemption originally issued on an emergency basis authorizing the reuse of Specification UN 1H1 non-removable head plastic drums for the transportation of certain Class 8 materials to Environmental Protection Agency licensed treatment, storage or disposal facilities.
12885-M | DOT-E 12885 | United States Dept. of Agriculture, Missoula, MT | 49 CFR 173.303(c) | To reissue the exemption originally issued on an emergency basis for the transportation of gasoline in a non-Dot specification steel drum with a pump installed mounted in a helitorch frame.
12892-M | DOT-E 12892 | Bulk Truck & Transport Service, Inc., Hanover, IN | 49 CFR 172.203(a), 178.337-10(d) | To modify the exemption to reissue the exemption originally issued on an emergency basis for continued use of MC 331 cargo tanks that do not meet the minimum rear bumper requirements specified in the HMR transporting Division 2.1 materials.

New Exemptions
Application No. | Exemption No. | Applicant | Regulation(s) affected | Nature of exemption thereof
12674-N | DOT-E 12674 | G&S Aviation, Donnelly, ID | 49 CFR 172.101 (Col. 9A), 175.75(a)(1), 175.75(a)(2) | To authorize the transportation in commerce of propane in 4BA/4BW type cylinders aboard small passenger-carrying aircraft to remote locations. (mode 5)
12695-N | DOT-E 12695 | Global Composites International, Inc., San Dimas, CA | 49 CFR 173.302(a)(1), 173.304(a)(1), 173.34(e), 175.3 | To authorize the manufacture, mark, sale and use of non-DOT specification cylinders for use in transporting certain Division 2.1 and 2.2 hazardous materials. (modes 1, 2, 3, 4)
12724-N | DOT-E 12724 | E.I. DuPont de Nemours & Co., Inc., Wilmington, DE | 49 CFR 172.203(a), 178.345-10(b)(3), 180.405(h) | To authorize the transportation in commerce of MC 312 cargo tanks equipped with pressure relief systems that do not conform to the requirements of the HMR. (mode 1)
12781-N | DOT-E 12781 | International Business Aircraft, Inc., Tulsa, OK | 49 CFR 172.101 Column 9B, 172.204(c)(3), 173.27(b)(2)(3), 175.30(a)(1) | To authorize the transportation in commerce of Class 1 explosives which are forbidden or exceed quantities presently authorized. (mode 4)
12783-N | DOT-E 12783 | CryoSurgery, Inc., Nashville, TN | 49 CFR 173.304(a)(1), 173.306(a) | To authorize the transportation in commerce of small units of compressed gas, refrigerant 404A as limited quantities and/or ORM-D intended for medical use. (modes 1, 2, 3, 4, 5)
12784-N | DOT-E 12784 | CryoSurgery, Inc., Nashville, TN | 49 CFR 173.304(a)(1), 173.306(a) | To authorize the transportation in commerce of compressed, refrigerant 22, when shipped in relatively small units to be reclassed as ORM-D and transported as consumer commodity for medical purposes. (modes 1, 2, 3, 4, 5)
12841-N | DOT-E 12841 | FIBA Technologies, Inc., Westboro, MA | 49 CFR 173.315, 173,318, 176.76(g)(1) | To authorize the manufacture, marking, sale and use of an IMO Type 7/US DOT MC 338 tank permanently fitted within an ISO frame for use in transporting various hazardous materials. (modes 1, 2)
12842-N | DOT-E 12842 | Giant Resource Recovery Aerosols, Inc. (GRR), Summerville, SC | 49 CFR 173.156(b) | To authorize the transportation in commerce of aerosols, in specially designed containers for use in transporting Division 2.1 and 2.2 gases to collection site for recycling. (mode 1)
12858-N | DOT-E 12858 | Union Carbide Corporation, South Charlestown, WV | 49 CFR 172.203, 173.31(c)(1), 179.13 | To authorize the transportation in commerce of a DOT specification 105J400W tank car having a gross weight on rail of 286,000 pounds, for use in transportation Division 2.1, 2.3, Poison-Inhalation Hazard/Zone D. (mode 2)
12865-N | DOT-E 12865 | BOC Gases, Riverton, NJ | 49 CFR 173.301(j) | To authorize the transportation in commerce of non-DOT specification cylinders for export containing various compressed gases without pressure relief devices. (modes 1, 3)
1868-N | DOT-E 12868 | Anderson Development Company, Adrian, MI | 49 CFR 173.301(j) | To authorize the transportation in commerce of non-DOT specification cylinders for export containing various compressed gases without pressure relief devices. (modes 1, 3)
1869-N | DOT-E 12869 | Praxair, Inc., Danbury, CT | 49 CFR 173.301(j) | To authorize the transportation in commerce of non-DOT specification cylinders for export containing various compressed gases without pressure relief devices. (modes 1, 3)
12877-N | DOT-E 12877 | BAE Systems, Pomona, CA | 49 CFR 172.101 Column 9A, 172.400(a), 172.500(a), 175.3 | To authorize the transportation in commerce of cesium, Division 4.3, without required labeling and placarding in specially designed packaging to be used on military aircraft. (modes 1, 4, 5)
12897-N | DOT-E 12897 | ATK Thiokol Propulsion, Brigham City, UT | 49 CFR 173.242, 173.32(a) | To authorize the transportation in commerce of ammonium perchlorate, Division 5.1, in DOT 53 portable tanks not presently authorized (modes 1, 2)
12899-N | DOT-E 12899 | Pencor Reservoir Fluid Specialists, Broussard, LA | 49 CFR 173.201(c), 173.202(c), 173.203(c), 173.302(a), 173.304(a) & (b), 173.34(d), 175.3 | To authorize the manufacture, mark, sale and use of non-DOT specification cylinders comparable to DOT Specification 3A cylinders for use in transporting Division 2.1, 2.2 and Class 3 material. (modes 1, 2, 3, 4)
12903-N | DOT-E 12903 | Cargill Inc., Minneapolis, MN | 49 CFR 172.203(a), 173.26, 179.13 | To authorize the transportation in commerce of Class 3 material in DOT Specification 111A100W1 tank cars having a maximum gross weight of 286,000 pounds. (mode 2)

Emergency Exemptions
Application No. | Exemption No. | Applicant | Regulation(s) affected | Nature of exemption thereof
EE 10915-M | DOT-E 10915 | Luxfer Gas Cylinders, Riverside, CA | 49 CFR 173.302(a)(1), 173.304(a)(d), 173.34(e), 175.3 | Modified exemption to authorize shipment of compressed gas n.o.s. as additional commodity and corrected UN number. (modes 1, 2, 3, 4, 5).
EE 12447-M | DOT-E 12447 | Akzo Nobel, Norcross, GA | 49 CFR 172.301(c), 172.407(c)(1) | Modified description and capacity of cans contained in fiberboard boxes printed with incorrect size hazard warning labels. (mode 1).
EE 12807-M | DOT-E 12807 | Clariant Corporation, Charlotte, NC | 49 CFR 172.302(c), 180.352(b)(1) | To reissue exemption issued on emergency basis to authorize the one-way transportation of a UN31A IBC, which was filled with a flammable liquid, beyond its requalification due date. (mode 1).
EE 12892-N | DOT-E 12892 | Bulk Truck and Transport Service, Inc., Hanover, IN | 49 CFR 172.203(a), 178.337-10(d) | Emergency request for continued use of MC 331 cargo tanks that do not meet the minimum rear bumper requirements of 49 CFR 178.337-10(d). (mode 1).
EE 12893-N | DOT-E 12893 | Department of Justice, Justice Management Division, Washington, DC | 49 CFR 172.101 Column 8C | Request an emergency exemption for the transportation of small solid materials contaminated or suspected of being contaminated with anthrax (mode 1).
EE 12894-N | DOT-E 12894 | Department of Justice, Justice Management Division, Washington, DC | 49 CFR 172.101 Column 8C | Request an emergency exemption to transport large solid materials contaminated with or suspected of being contaminated with anthrax (mode 1).
EE 12896-N | DOT-E 12896 | Environmental Protection Agency, Washington, DC | 49 CFR 172.101 Column 8C | Request an emergency exemption to transport solid materials contaminated with anthrax bacteria in non-DOT spec. packaging. (mode 1).
EE 12907-N | DOT-E 12907 | Allied Universal Corp., Miami, FL | 49 CFR 173.24(b), 179.300-12(b), 179.300-13(a), 179.300-14 | Request for an emergency exemption to transport a leaking ton cylinder that has been fitted with an emergency B kit to prevent leaking during transportation. (mode 1).
EE 12908-N | DOT-E 12908 | JCI Jones Chemicals, Inc., Milford, VA | 49 CFR 173.24(b), 179.300-12(b), 179.300-13(a), 179.300-14 | Request one time transportation of a leaking container containing sulfur dioxide, equipped with a Chlorine Institute B-kit, from Ocean City, MD to Milford, VA. (mode 1).
EE 12913-N | DOT-E 12913 | Novelty, Inc., Greenfield, IN | 49 CFR 172.301(c), 173.22(a)(4) | Emergency request for relief from packaging requirements for lighters that have already been approved. (mode 1).
EE 12914-N | DOT-E 12914 | Jones Chemicals, Inc., Milford, VA | 49 CFR 172.301(c), 173.34(d) | Emergency request to transport a DOT 3A cylinder containing chlorine that was found leaking and has had a Chlorine Institute approved A-Kit applied. (mode 1).
EE 12915-N | DOT-E 12915 | Airgas-Nor Pac, Inc., Portland, OR | 49 CFR 172.301(c), 173.34(d) | For one-time transportation of leaking cylinder containing chlorine and applied with Chlorine Institute “A-kit” from Klamath Falls, Oregon to Tacoma, Washington. (mode 1).
EE 12916-N | DOT-E 12916 | Allied Universal Corp., Miami, FL | 49 CFR 173.34(d) | Request for an emergency exemption to transport a leaking 150 lb. cylinder that has been fitted with an A kit to prevent leaking during transportation. (mode 1).
EE 12917-N | DOT-E 12917 | Northwest Ohio Towing & Recovery, Inc., Beaverdam, OH | 49 CFR 173.242(b) | Emergency request to transport cargo tanks (aviation refuelers) containing the residue of gasoline. The cargo tanks were built to MC 306 specifications but have not tested and maintained as such. (mode 1).
EE 12918-N | DOT-E 12918 | Jones Chemicals, Inc., Charlotte, NC | 49 CFR 172.301(c), 173.34(d) | Emergency request to transport a 3A480 cylinder with a leaking valve that has had a Chlorine Institute approved A Kit applied. (mode 1).
EE 12919-N | DOT-E 12919 | Acambis, Inc., Cambridge, MA | 49 CFR 173.196(b), 178.609 | Request for an emergency exemption to use packagings for infectious substances that have not been performance-tested. (mode 1).
EE 12934-N | DOT-E 12934 | Kuehne Chemical Company, South Kearny, NJ | 49 CFR 173.24, 179.300-12(b), 179.300-13(a), 179.300-14 | Request for an emergency exemption to transport a leaking ton cylinder that has been fitted with a B kit. (mode 1).
EE 12935-N | DOT-E 12935 | JCI Jones Chemicals, Inc., Charlotte, NC | 49 CFR 173.34(d) | Request for an emergency exemption to authorize the transportation in commerce of a leaking ton cylinder that has been fitted with an emergency A Kit to prevent leaking during transportation. (mode 1).
EE 12937-N | DOT-E 12937 | BASF Corporation, Mount Olive, NJ | 49 CFR 172.301(a), 172.400, 173.213(c) | Emergency request to transport pendimethal described as flammable solid n.o.s., UN 1325, III in a 5M1 multi wall paper bag that is certified to PG II (mode 1, 2, 4).
EE 12938-N | DOT-E 12938 | TRW Systems & Information Technology, Redondo Beach, CA | 49 CFR 173.24(b)(1), 173.302(a)(1), 173.304(a)(2), 173.34(d) | Request for an emergency exemption to transport anhydrous ammonia in a non-DOT specification container. (mode 1).
EE 12939-N | DOT-E 12939 | Allied Universal Corp., Miami, FL | 49 CFR 173.34(d) | Request to transport a leaking ton cylinder that has been fitted with an emergency A kit to prevent leaking during transportation. (mode 1).
EE 12940-N | DOT-E 12940 | T.J. Egan Waste Systems, Bloomfield, NJ | 49 CFR 172.101 Column 8C, 172.302(c) | Request for emergency exemption to transport co-mingled regulated and solid waste in bulk packagings. (mode 1).
EE 12947-N | DOT-E 12947 | Safety Kleen (TG), Inc., Columbia, SC | 49 CFR 173.202 | Request for an emergency exemption to transport a class 3 material in a bulk, non-DOT specification container. (mode 1).
EE 12948-N | DOT-E 12948 | Kuehne Chemical Company, South Kearny, NJ | 49 CFR 173.24, 179.300-12(b), 179.300-13(a), 179.300-14 | Request for an emergency exemption to transport a leaking ton tank car tank containing chlorine, that has been fitted with an emergency B kit to prevent leaking during transportation. (mode 1).
EE 12957-N | DOT-E 12957 | Transportation Services Unlimited, Miami, FL | 49 CFR 173.302(c), 179.300-12(b), 179.300-13(a), 179.300-14 | Emergency request to transport two DOT specification 106A500X tank cars one of which has a problem with the fusible plug and one which has a problem with the valve. Each tank has a Chlorine Institute B Kit applied. (mode 1).
EE 12958-N | DOT-E 12958 | DPC Enterprises, Houston, TX | 49 CFR 173.34(d) | Request for emergency exemption to transport a leaking ton cylinder that has been fitted with an A kit to prevent leaking. (mode 1).
EE 12962-N | DOT-12962 | Allied Universal Corp., Miami, FL | 49 CFR 172.302 (c), 179.300-12(b), 179.300-13(a), 179.300-14 | Emergency request to transport a one ton container (DOT Spec 106A500X) that developed a leak in the valve and has a Emergency B kit applied. (mode 1).
EE 12971-N | DOT-E 12971 | Allied Universal Corporation, Miami, FL | 49 CFR 172.302(c), 179.300-12(b), 179.300-13(a), 179.300-14 | Emergency request to transport a DOT Specification 106A500X containing sulfur dioxide that developed a leak in one of the valves and has a Chlorine Institute Emergency B Kit applied. (mode 1).

Denials
4453-M | Request by Dyno Nobel, Inc. Salt Lake City, UT to modify the exemption to allow for the transportation of an additional Division 1.5D explosive in a non-DOT specification bulk, hopper-type tank denied January 31, 2002.
8554-M | Request by Dyno Nobel, Inc. Salt Lake City, UT to modify the exemption to allow for the transportation of an additional Division 1.5D explosive in DOT Specification MC-306, MC-307 and MC-312 cargo tanks denied January 31, 2002.
8723-M | Request by Dyno Nobel, Inc. Salt Lake City, UT to modify the exemption to allow for the transportation, in bulk, of an additional Division 1.5D explosive in certain authorized motor vehicles and portable tanks denied January 31, 2002.
9401-M | Request by Societe Nationale de Wagon-Reservoirs 79009 Paris, FR to modify the exemption to authorize the transportation of additional Division 2.2 materials in non-Dot specification IMO Type 5 portable tanks denied March 25, 2002.
10705-M | Request by Baker Petrolite Victoria, TX to modify the exemption to authorize the use of contract carriers for the transportation of a Division 6.1 material, without the segregation requirements, by highway motor vehicle denied March 25, 2002.
10833-M | Request by Health Care Waste Services Bronx, NY to modify the exemption to authorize an additional non-DOT specification steel container for use as bulk outer packaging transporting Division 6.2 materials in dual packagings denied January 18, 2002.
11244-M | Request by Aerospace Design & Development, Inc. Longmont, CO to modify the exemption to allow for a design change of the non-DOT specification titanium alloy cylinder for the transportation of Division 2.2 materials denied January 28, 2002.
11993-M | Request by BREED Technologies, Inc. Lakeland, FL to modify the exemption to authorize a new design style of the non-DOT specification cylinders used as components of automobile vehicle safety systems for the transportation of Division 2.1 and 2.2 materials denied March 13, 2002.
12586-N | Request by Wilsonart International Inc. Temple, TX to authorize rail cars to remain attached while standing without the physical presence of an unloader denied January 28, 2002.
12755-N | Request by Air Canada Ottawa, ON to authorize the transportation in commerce of hazardous materials by aircraft that exceed the quantity limitations in the HMR denied January 10, 2002.

[FR Doc. 02-10036 Filed 4-23-02; 8:45 am]

BILLING CODE 4909-60-M